DEPARTMENT OF ENERGY

Federal Energy Regulatory Commission

[Project No. 12532-008]

Pine Creek Mine, LLC; Notice of Effectiveness of Withdrawal of Application for Surrender

On December 16, 2022, the Pine Creek Mine, LLC, filed an application for surrender of the Pine Creek Mine Tunnel Hydroelectric Project No. 12532. On August 18, 2023, the Pine Creek Mine, LLC, filed a request to withdraw its surrender application.

No motion in opposition to the request for withdrawal has been filed, and the Commission has taken no action to disallow the withdrawal. Pursuant to Rule 216(b) of the Commission's Rules of Practice and Procedure,¹ the withdrawal of the application became effective on September 5, 2023,² and this proceeding is hereby terminated.³

¹ 18 CFR 385.216(b) (2022).

² The Commission's Rules of Practice and Procedure provide that if a filing deadline falls on a Saturday, Sunday, holiday, or other day when the Commission is closed for business, the filing deadline does not end until the close of business on the next business day. 18 CFR 385.2007(a)(2) (2022). Because the 15-day deadline fell on a Saturday (i.e., September 2, 2023), and Monday, September 4, 2023 was a holiday, the filing deadline was extended until the close of business on Tuesday, September 5, 2023.

³ On April 4, 2023, Pine Creek Partnership filed a motion requesting stay of the license surrender proceeding, and on April 17, 2023, Pine Creek Mine, LLC filed a request for a show cause order and enforcement sanctions. Since the surrender proceeding is terminated, the requests are moot.

Dated: September 14, 2023.
Kimberly D. Bose,
Secretary.

[FR Doc. 2023-20353 Filed 9-19-23; 8:45 am]

BILLING CODE 6717-01-P